DEPARTMENT OF ENERGY

Federal Energy Regulatory Commission

Combined Notice of Filings #1

Take notice that the Commission received the following exempt wholesale generator filings:

Docket Numbers: EG15-74-000.

Applicants: Recurrent Energy, LLC.

Description: Self-Certification of RE Mustang LLC.

Filed Date: 4/27/15.

Accession Number: 20150427-5120.

Comments Due: 5 p.m. ET 5/18/15.

Docket Numbers: EG15-75-000.

Applicants: Recurrent Energy, LLC.

Description: Self-Certification of RE Mustang 3 LLC.

Filed Date: 4/27/15.

Accession Number: 20150427-5121.

Comments Due: 5 p.m. ET 5/18/15.

Docket Numbers: EG15-76-000.

Applicants: Recurrent Energy, LLC.

Description: Self-Certification of RE Mustang 4 LLC.

Filed Date: 4/27/15.

Accession Number: 20150427-5122.

Comments Due: 5 p.m. ET 5/18/15.

Take notice that the Commission received the following electric rate filings:

Docket Numbers: ER10-3168-012; ER14-2871-003; ER10-3243-005; ER15-356-002; ER15-357-002; ER10-3244-005; ER10-3245-004; ER10-3249-004; ER10-3250-004; ER10-3169-008; ER10-3251-003; ER14-2382-003; ER15-621-002; ER12-2570-008; ER11-2639-004; ER15-622-002; ER15-463-002; ER15-110-002; ER13-1586-004; ER10-1992-010; ER13-618-007.

Applicants: ArcLight Energy Marketing, LLC, Cameron Ridge, LLC, Chandler Wind Partners, LLC, Chief Conemaugh Power, LLC, Chief Keystone Power, LLC, Coso Geothermal Power Holdings, LLC, Foote Creek II, LLC, Foote Creek III, LLC, Foote Creek IV, LLC, Michigan Power Limited Partnership, Oak Creek Wind Power, LLC, ON Wind Energy LLC, Pacific Crest Power, LLC, Panther Creek Power Operating, LLC, Ridge Crest Wind Partners, LLC, Ridgetop Energy, LLC, San Gorgonio Westwinds II, LLC, Terra-Gen Energy Services, LLC, TGP Energy Management, LLC, Victory Garden Phase IV, LLC, Westwood Generation, LLC.

Description: Notice of Non-Material Change in Status of ArcLight Energy Marketing, LLC, et al.

Filed Date: 4/24/15.

Accession Number: 20150424-5366.

Comments Due: 5 p.m. ET 5/15/15.

Docket Numbers: ER13-342-007.

Applicants: CPV Shore, LLC.

Description: Notice of Change in Status of CPV Shore, LLC.

Filed Date: 4/24/15.

Accession Number: 20150424-5370.

Comments Due: 5 p.m. ET 5/15/15.

Docket Numbers: ER15-237-003.

Applicants: Public Service Company of Colorado.

Description: Tariff Amendment per 35.17(b): 2015-04-24_Response to JDA Deficiency Ltr to be effective 1/1/2015.

Filed Date: 4/24/15.

Accession Number: 20150424-5344.

Comments Due: 5 p.m. ET 5/15/15.

Docket Numbers: ER15-295-002.

Applicants: Black Hills/Colorado Electric Utility Co.

Description: Tariff Amendment per 35.17(b): Joint Dispatch Amendment Filing—Response to Second Staff Letter to be effective 1/1/2015.

Filed Date: 4/24/15.

Accession Number: 20150424-5339.

Comments Due: 5 p.m. ET 5/15/15.

Docket Numbers: ER15-348-002.

Applicants: Black Hills/Colorado Electric Utility Co.

Description: Tariff Amendment per 35.17(b): Joint Dispatch Amendment Filing—Response to Second Staff Letter to be effective 1/1/2015.

Filed Date: 4/24/15.

Accession Number: 20150424-5337.

Comments Due: 5 p.m. ET 5/15/15.

Docket Numbers: ER15-1565-000.

Applicants: Sky River LLC.

Description: Section 205(d) rate filing per 35.13(a)(2)(iii): Sky River LLC Amendment to the Open Access Transmission Tariff to be effective 4/25/2015.

Filed Date: 4/24/15.

Accession Number: 20150424-5341.

Comments Due: 5 p.m. ET 5/15/15.

Docket Numbers: ER15-1566-000.

Applicants: Metropolitan Edison Company, Exelon Generation Company, LLC.

Description: Notice of Cancellation of Service Agreement of Metropolitan Edison Company and Exelon Generation Company, LLC.

Filed Date: 4/27/15.

Accession Number: 20150427-5328.

Comments Due: 5 p.m. ET 5/18/15.

Docket Numbers: ER15-1567-000.

Applicants: PJM Interconnection, L.L.C.

Description: Section 205(d) rate filing per 35.13(a)(2)(iii): PJM Original Service Agreement No. 4117, Queue V4-011 to be effective 3/26/2015.

Filed Date: 4/27/15.

Accession Number: 20150427-5378.

Comments Due: 5 p.m. ET 5/18/15.

Take notice that the Commission received the following land acquisition reports:

Docket Numbers: LA15-1-000.

Applicants: Arbuckle Mountain Wind Farm LLC, Blue Canyon Windpower LLC, Blue Canyon Windpower II LLC, Blue Canyon Windpower V LLC, Blue Canyon Windpower VI LLC, Cloud County Wind Farm, LLC, Waverly Wind Farm LLC, Flat Rock Windpower LLC, Flat Rock Windpower II LLC, Madison Windpower LLC, Marble River, LLC, Sustaining Power Solutions LLC.

Description: Quarterly Land Acquisition Report of Arbuckle Mountain Wind Farm LLC, et al.

Filed Date: 4/27/15.

Accession Number: 20150427-5252.

Comments Due: 5 p.m. ET 5/18/15.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 27, 2015.
Nathaniel J. Davis, Sr.,
Deputy Secretary.

[FR Doc. 2015-10309 Filed 5-1-15; 8:45 am]

BILLING CODE 6717-01-P